NUCLEAR REGULATORY COMMISSION

[NRC-2017-0198]

Issuance of a Revision to the Guidance Document for Alternative Disposal Requests

AGENCY: Nuclear Regulatory Commission.

ACTION: Revised guidance; issuance.

SUMMARY: The U.S. Nuclear Regulatory Commission (NRC) is issuing a revision to its guidance document for alternative disposal requests, “Guidance for the Reviews of Proposed Disposal Procedures and Transfers of Radioactive Material Under 10 CFR 20.2002 and 10 CFR 40.13(a).” This document provides guidance and the NRC staff process for documenting, reviewing, and dispositioning requests received for alternative disposal of licensed material. The revision incorporates changes made in response to comments received on the draft guidance document, as well as interactions with NRC stakeholders.

DATES: The revised guidance is effective immediately for use.

ADDRESSES: Please refer to Docket ID NRC-2017-0198 when contacting the NRC about the availability of information regarding this document. You may obtain publicly-available information related to this action by any of the following methods:

• Federal Rulemaking Website: Go to https://www.regulations.gov and search for Docket ID NRC-2017-0198. Address questions about NRC dockets IDs in Regulations.gov to Jennifer Borges; telephone: 301-287-9127; email: Jennifer.Borges@nrc.gov. For technical questions, contact the individual(s) listed in the FOR FURTHER INFORMATION CONTACT section of this document.

• NRC's Agencywide Documents Access and Management System (ADAMS): You may obtain publicly available documents online in the ADAMS Public Document collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The revision to the guidance document, along with supporting documents, is available in ADAMS under Accession No. ML19295F109.

FOR FURTHER INFORMATION CONTACT: Marlayna Doell, Office of Nuclear Material Safety and Safeguards, U.S. Nuclear Regulatory Commission, Washington, DC 20555-0001; telephone: 301-415-3178; email: Marlayna.Doell@nrc.gov.

SUPPLEMENTARY INFORMATION: In October 2017, the NRC issued a draft of the guidance document to obtain public input on how to improve the alternative disposal process (ADAMS Package Accession No. ML17229B588). A notice of availability, requesting comment on the draft guidance document, was published in the Federal Register (82 FR 48727; October 19, 2017). This Federal Register notice provided background information regarding the draft guidance document, solicited public comments, and provided notice of the NRC's plans to hold a public meeting to discuss the document and receive comments on the proposed changes, which occurred on October 19, 2017.

The NRC reviewed and now responds to all the comments from the initial comment period. The NRC staff's resolution of these comments is incorporated into a response document that is included in the supporting documents for this updated revision to the guidance document (ADAMS Package Accession No. ML19295F109). Comments received addressed the following issues: General; Policy/Rulemaking; Agreement State/Regulatory Overlap; Unimportant Quantities of Radioactive Material; Performance Assessment; Compliance Period and Analysis Timeframes; Radon; Other Off-Site Disposals—Release of Solid Material with Volumetric Contamination; Transportation; and Cumulative Impacts.

The NRC staff revised the guidance document in several areas, including the discussions on performance assessment, off-site burial disposals, regulatory requirements, requests for additional information, other off-site disposals, release of solid material with volumetric contamination, non-licensees, and the overall 10 CFR 20.2002 process in response to comments. The purpose of this revision to the guidance is to improve the alternative disposal process by further clarifying the methods and information needed to dispose of waste using an alternate process. This document is a rule as defined in the Congressional Review Act (5 U.S.C. 801-808). However, the Office of Management and Budget has not found it to be a major rule as defined in the Congressional Review Act. The revision to the guidance is available at ADAMS Package Accession No. ML19295F109 and is available for immediate use by all stakeholders.

Dated: April 3, 2020.
For the Nuclear Regulatory Commission.
Patricia K. Holahan,
Director, Division of Decommissioning, Uranium Recovery, and Waste Programs, Office of Nuclear Material Safety and Safeguards.

[FR Doc. 2020-07417 Filed 4-8-20; 8:45 am]

BILLING CODE 7590-01-P